DEPARTMENT OF THE INTERIOR

Bureau of Land Management

[WY-100-05-1310-DB]

Notice of Meeting of the Pinedale Anticline Working Group's Cultural and Historic Task Group

AGENCY: Bureau of Land Management, Interior.

ACTION: Notice of public meeting and cancellation.

SUMMARY: In accordance with the Federal Land Policy and Management Act (1976) and the Federal Advisory Committee Act (1972), the U.S. Department of the Interior, Bureau of Land Management (BLM) Pinedale Anticline Working Group (PAWG) Cultural and Historic Task Group (subcommittee) will meet in Pinedale, Wyoming, for a business meeting. Task Group meetings are open to the public.

DATES: A PAWG Cultural and Historic Task Group meeting is scheduled for April 12, 2005, from 5 p.m. until 9 p.m.

ADDRESSES: The PAWG Cultural and Historic Task Group meeting will be held in the BLM Pinedale Field Office conference room at 432 E. Mill St., Pinedale, WY.

FOR FURTHER INFORMATION CONTACT: Dave Vlcek at 307-367-5327 or Kierson Crume at 307-367-5343, BLM/Cultural and Historic TG Liaisons, Bureau of Land Management, Pinedale Field Office, 432 E Mills St., P.O. Box 768, Pinedale, WY 82941.

SUPPLEMENTARY INFORMATION: The Pinedale Anticline Working Group (PAWG) was authorized and established with release of the Record of Decision (ROD) for the Pinedale Anticline Oil and Gas Exploration and Development Project on July 27, 2000. The PAWG advises the BLM on the development and implementation of monitoring plans and adaptive management decisions as development of the Pinedale Anticline Natural Gas Field (PAPA) proceeds for the life of the field. The agenda for these meetings will include information gathering and discussion related to developing a reclamation monitoring plan to assess the impacts of development in the Pinedale Anticline gas field, and identifying who will do and who will pay for the monitoring. Task Group recommendations are due to the PAWG in February 2005. At a minimum, public comments will be heard just prior to adjournment of the meeting.

Dated: March 8, 2005.
Bill Wadsworth,
Acting Field Office Manager.

[FR Doc. 05-5100 Filed 3-14-05; 8:45 am]

BILLING CODE 4310-22-P